DEPARTMENT OF ENERGY

Federal Energy Regulatory Commission

[Docket No. CP22-25-000]

Venture Global Calcasieu Pass, LLC; Notice of Revised Schedule for Environmental Review of the Calcasieu Pass Uprate Amendment Project

This notice identifies the Federal Energy Regulatory Commission (FERC) staff's revised schedule for the completion of the environmental assessment (EA) for Venture Global Calcasieu Pass, LLC's (Calcasieu Pass) Uprate Amendment Project. The first notice of schedule, issued on April 27, 2022, identified June 24, 2022 as the EA issuance date. However, this schedule was based upon Calcasieu Pass providing complete and timely responses to any data requests. Commission staff issued an engineering data request to Calcasieu Pass on May 9, 2022, requesting responses by May 14 and May 23, 2022. Calcasieu Pass's responses to those requests were filed on May 20 and June 3, 2022. Due to Calcasieu Pass' delay in responding to FERC staff's May 9, 2022 data request, staff must revise the schedule for issuance of the EA.

Schedule for Environmental Review

Issuance of the EA—August 5, 2022

90-day Federal Authorization Decision Deadline ¹—November 3, 2022

¹ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the project is available from the Commission's Office of External Affairs at (866) 208-FERC or on the FERC website (www.ferc.gov). Using the “eLibrary” link, select “General Search” from the eLibrary menu, enter the selected date range and “Docket Number” (i.e., CP22-25-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 24, 2022.
Debbie-Anne A. Reese,
Deputy Secretary.

[FR Doc. 2022-14013 Filed 6-29-22; 8:45 am]

BILLING CODE 6717-01-P